FEDERAL COMMUNICATIONS COMMISSION

Notice of Public Information Collection(s) Being Submitted to OMB for Review and Approval

October 7, 2003.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before November 20, 2003. If you anticipate that you will be submitting comments, but find it difficult to do so within the period of time allowed by this notice, you should advise the contact listed below as soon as possible.

ADDRESSES: Direct all comments to Les Smith, Federal Communications Commission, Room 1-A804, 445 12th Street, SW., Washington, DC 20554 or via the Internet to Leslie.Smith@fcc.gov or Kim A. Johnson, Office of Management and Budget (OMB), Room 10236 NEOB, Washington, DC 20503, (202) 395-3562 or via internet at Kim_A._Johnson@omb.eop.gov.

FOR FURTHER INFORMATION CONTACT: For additional information or copies of the information collections contact Les Smith at (202) 418-0217 or via the Internet at Leslie.Smith@fcc.gov.

SUPPLEMENTARY INFORMATION: OMB Control Number: 3060-0110.

Title: Application for Renewal of Broadcast Station License, FCC Form 303-S.

Form Number: FCC 303-S.

Type of Review: Revision of currently approved collection.

Respondents: Business or other for-profit entities; not-for-profit institutions.

Number of Respondents: 3,217.

Estimated Time per Response: 1.0 hours (avg.).

Frequency of Response: Reporting once every 8 years; third party disclosure.

Total Annual Burden: 5,271 hours.

Total Annual Costs: $1,567,401.

Needs and Uses: FCC Form 303-S is used in applying for renewal of a license for a commercial or non-commercial AM, FM, or TV broadcast station and FM translator, TV translator, or low power TV (LPTV), or low power FM broadcast station. It can also be use to seek the joint renewal of licenses for an FM or TV translator station and its co-owed primary FM, TV, or LPTV station. The FCC has recently made two new statutory changes—47 U.S.C. 312(g), which provides for automatic expiration of a license if the licensee does not broadcast (“goes silent”) for twelve months; and 47 U.S.C. 309(k), which affects renewal standards and FCC violations. The Commission is also revising Form 303-S to make it a simpler and clearer form that shifts to a convenient certification-based approach to applicants. Furthermore, the Commission is changing this form in line with the release on November 20, 2002 of the Second Report and Order and FNPRM, Review of the Commission's Broadcast and Cable Equal Employment Opportunities Rules and Policies, MM Docket No. 98-204, FCC 02-303.

OMB Number: 3060-0342.

Title: Section 74.1284, Rebroadcasts.

Form Number: N/A.

Type of Review: Extension of currently approved collection.

Respondents: Business or other for-profit entities.

Number of Respondents: 100.

Estimated Time per Response: 1 hour.

Frequency of Response: On occasion reporting requirement; Third party disclosure.

Total annual burden: 100 hours.

Total annual costs: $0.00.

Needs and Uses: 47 CFR section 74.1284 requires that the licensee of an FM translator station obtain prior consent from the primary FM broadcast station or other FM translator before rebroadcasting their programs. In addition, the licensee must notify the Commission of the call letters of each station rebroadcast and certify that written consent has been received from the licensee of that station whose programs are retransmitted. The FCC staff uses the data to update records and to assure compliance with FCC rules and regulations.

OMB Control Number: 3060-0331.

Title: Aeronautical Frequency Notification, FCC Form 321.

Form Number: FCC 321.

Type of Review: Revision of a currently approved collection.

Respondents: Business and other for-profit entities; Not-for-profit institutions.

Number of Respondents: 1,855.

Estimated Time per Response: 40 minutes.

Frequency of Response: One-time and on occasion reporting requirements.

Total Annual Burden: 1,237 hours.

Total Annual Costs: $92,750.

Needs and Uses: On March 13, 2003, the Commission adopted a Report and Order (R&O), Amendment of the Commission's Rules for Implementation of its Cable Operations and Licensing System (COALS) to Allow for Electronic Filing of Licensing Applications, Forms, Registrations and Notifications in the Multichannel Video and Cable Television Service and the Cable Television Relay Service, FCC 03-55. This R&O provided for electronic filing and standardized information collections. Under 47 CFR section 76.1804 of the FCC rules, an MVPD must file FCC Form 321 prior to commencing operation in the aeronautical frequency bands at an average power level across a 25 kHz bandwidth in any 160 microsecond time period equal to or greater than 10−⁴ watts at any point in the cable distribution system. In addition, this form must be filed prior to transmitting on any new frequency or frequencies in the aeronautical radio frequency bands. This form will replace the requirement that an MVPD send a letter containing approximately the same information. It should reduce the burden on respondents by clarifying the exact information they need to send and by providing a consistent format for the information.

OMB Control Number: 3060-0611.

Title: Section 74.783, Station Identification.

Form Number: N/A.

Type of Review: Extension of currently approved collection.

Respondents: Business or other for-profit entities; State, Local or Tribal Government.

Number of Respondents: 400.

Estimated Time per Response: 0.166 hours.

Total Annual Burden: 66 hours.

Total Annual Costs: $0.00.

Needs and Uses: 47 CFR section 74.783(e) permits any low power television (LPTV) station to request a four-letter call sign after receiving its construction permit. All initial LPTV construction permits will continue to be issued with a five-character LPTV call sign. LPTV respondents are required to use the on-line electronic system. To enable these respondents to use this on-line system, the Commission eliminated the requirement that holders of LPTV construction permits submit with their call sign requests a certification that the station has been constructed, that physical construction is underway at the transmitter site, or that a firm equipment order has been placed. (All burden associated with call sign requests for the on-line reservation and authorization system are included in information collection 3060-0188.) 47 CFR 74.783(b) requires licensees of television translators whose station identification is made by the television station whose signals are being rebroadcast by the translator, must secure agreement with this television licensee to keep in its file, and available to FCC personnel, the translator's call letters and location, giving the name, address and telephone number of the licensee or service representative to be contacted in the event of malfunction of the translator.

Federal Communications Commission.
Marlene H. Dortch,
Secretary.

[FR Doc. 03-26240 Filed 10-20-03; 8:45 am]

BILLING CODE 6712-01-P